DEPARTMENT OF AGRICULTURE

Forest Service

Big Grizzly Fuels Reduction and Forest Health Project, Eldorado National Forest, Placer County, CA

AGENCY: Forest Service, USDA.

ACTION: Notice of intent to prepare an environmental impact statement.

SUMMARY: The USDA, Forest Service, Eldorado National Forest will prepare an environmental impact statement (EIS) for a proposal to treat approximately 6,200 acres of National Forest System land for fuels reduction and forest health objectives. The project area is situated on the Georgetown Ranger District approximately 15 air-miles northeast of Georgetown, CA in the vicinity of Nevada Point Ridge, Devils Peak and Bear Springs. The intent of this project is to reduce potential fire hazard within the project area, to provide for increased resilience when a wildfire occurs within the project area, to provide for improved forest health, and to increase the rate of development of old forest characteristics. The Proposed Action consists of commercial and precommercial tree thinning with follow-up tractor piling or mastication; mastication of select, existing plantations with a follow-up treatment of herbicides to reduce brush competition and fuel buildup; the planting of conifers in expanded canopy gaps with a follow-up treatment of herbicide; and prescribed burning. Silvicultural treatments for each stand were chosen for their ability to meet the stated purpose and need. The focus of each treatment is based on the desired quality of each treatment area after management rather than the quantity or quality of the products removed from each area. In fact, some treatments would not remove forest products. Approximately 15 miles of native surface road reconstruction and 1 mile of new road construction are proposed in order to facilitate the treatment activities. The land allocations within the treatment areas, as identified in the Sierra Nevada Forest Plan Amendment Final Supplemental EIS (SNFPA FSEIS), are general forest, spotted owl home range core areas, old-forest, and riparian conservation areas adjacent to perennial, seasonal, and ephemeral streams.

The purpose of the project is: (1) To change existing forest surface, ladder and crown fuel profiles in order to reduce potential wildfire intensity and behavior to mitigate the consequences of large, potentially damaging wildfires on selected forested areas; (2) to improve stand vigor and resistance to disease and insect mortality; (3) maintain and/or establish a composition of tree species and size classes that are closer to the historic levels for the area, and correspondingly sustainable into the future; and (4) to treat hazard fuels in a cost-effective manner to maximize program effectiveness.

DATES: Comments concerning the scope of the analysis must be received within 30 days of the publication of this Notice of Intent in the Federal Register. The draft environmental impact statement is expected in May 2009 and the final environmental impact statement is expected in October 2009.

ADDRESSES: Send written comments to Ramiro Villalvazo, Forest Supervisor, Eldorado National Forest, 7600 Wentworth Springs Rd., Georgetown, CA 95634 Attention: Big Grizzly Fuels Reduction and Forest Health Project.

FOR FURTHER INFORMATION CONTACT: Dana Walsh, Project Leader, Georgetown Ranger District, 7600 Wentworth Springs Rd, Georgetown, CA 95634, or by telephone at 530-333-4312.

SUPPLEMENTARY INFORMATION:

Purpose and Need for Action

(1) The primary purpose of the project is to change existing forest surface, ladder and crown fuel profiles in order to reduce potential wildfire intensity and behavior to mitigate the consequences of large, potentially damaging wildfires on selected forested areas.

There is a need to change potential fire behavior during weather conditions that produce wildfire behavior with extreme fire intensity and severity across a large portion of the landscape. The fuels conditions within the project area make the area prone to the risk of a stand-replacing catastrophic wildfire. The risk of losing key ecosystem components in this area is high. Treatments are needed that would be effective in terms reducing potential wildfire damage to intrinsic, forest related resources. Within the vicinity of the Big Grizzly project, lightning, dispersed recreation use, off-highway vehicle use, and traffic on the Eleven Pines and Nevada Point Ridge Roads are potential sources of wildfire ignition.

The effects of the Eldorado National Forest's Cleveland Fire (23,000 acres), Icehouse Fire (18,000 acres), Wrights Fire (8,000 acres), Star Fire (17,000 acres) Fred Fire (7,700 acres), Power Fire (16,800 acres), and numerous other large, wetland fires in California and across the western United States emphasize the desirability and the urgency of managing forest stands to reduce the likelihood of catastrophic wildfire. In the absence of fuel reductions it is likely that wildfire would determine the future landscape, threatening lives and property.

Forests in this area were historically subject to frequent low intensity fires that resulted in open, fire-resistant stands of trees. Multiple decades of fire exclusion, grazing by domestic livestock, previous stand replacing wildfire, mining, and historic logging practices, including selective logging of large pines and lack of follow-up slash treatment, have contributed to altered fire regimes, heavy fuel loadings, and changed vegetation composition and structure. As a result, the number, size, and intensity of wildfires have been altered from their historical range.

By itself prescribed fire would be difficult to apply in the majority of the project area due to the fuel accumulation, changes in stand structure, and operation limitations in its use. Mechanical treatments can be effective tools to modify stand structure and influence subsequent fire severity and extent. In many stands mechanical thinning followed by prescribed fire is necessary to achieve forest resilience much faster than with prescribed fire alone.

Fire behavior is strongly influenced by stand structure as it relates to live and dead fuel loading and ladder fuels. Reducing crown density and both ladder fuels and surface fuels is essential to effectively change fire behavior. Reducing surface fuels and ladder fuels reduces the likelihood of crown scorch and crown ignition. The theoretical basis for changing fuel structure to reduce fire hazard is well established.

The theoretical benefits of fuel manipulation are supported by real world reviews of wildfires and their interaction with fuel treatment areas. Fuel treatments similar to those proposed on this project have also been demonstrated to be effective in recent research conducted on post-fire vegetation on the Angora and Cone Fires completed by the U.S. Forest Service. Results from a recent study on the effectiveness of pre-fire fuel treatments for several wildfires that burned in 2003 and 2004, including the Power Fire on the Eldorado National Forest further validate the use of a combination of canopy thinning and surface fuel treatments. Studies have demonstrated that the treatment of surface fuels alone is generally effective in altering fire severity; however, treatments that included canopy thinning followed by surface fuel treatment were found to be the most effective at reducing canopy scorch and tree mortality. Additionally, the effectiveness of treatments that reduced both canopy and surface fuels were found to increase with weather severity, i.e., the more extreme the fire conditions, the more valuable fuels treatments proved to be.

Reviews have pointed out that thinning treatments that are followed by reduction of surface fuels can significantly limit fire spread under wildfire conditions. Current research demonstrates the potential of fuel treatments to reduce large fire growth. Fuel treatments are most effective when the spatial arrangement of the treatment units is considered and planned for. The Big Grizzly project has been developed on the basis of anticipated treatment effectiveness and spatial arrangement of proposed treatment areas. Treatments within Strategically Placed Landscape Treatment Areas (SPLATs) can increase the effectiveness of fire suppression efforts, and substantially decrease the risk to life and property. This project would directly reduce the threat of catastrophic wildfire to multiple resources within and adjacent to the project area. In addition to implementing a spatial design for the project that might be optimal for reducing fire spread, the Big Grizzly Project has also been developed based on the historical ecological processes and landscape patterns within the project area.

Treatments are not intended to specifically facilitate fire suppression efforts. The focus of fuels treatments is to improve the ability of treated stands to withstand the adverse effects of future fires. However, safe and effective initial attack by hand crews and engine modules, the initial attack forces of the Georgetown Ranger District, is imperative due to current wildfire policy for the project area and air quality restrictions within the state which require continued fire suppression.

Selected plantations currently exhibit a buildup of woody brush species such as green leaf manzanita, deerbrush, whitethorn, and bitter cherry. The existing conditions of the plantations include an average brush component 4-10 feet in height with brush cover levels of 30 to 100%. Currently, flame lengths from a wildland fire burning under the 90th percentile weather conditions could easily make the transition from surface fire into the crowns of the trees, causing high mortality within plantations and continued fire spread into the surrounding forest stands.

The National Fire Plan and the Cohesive Strategy, developed after the severe wildfire season in 2000, provides direction to the Forest Service to reduce the amount of fuel in fire-prone forests to protect people and sustain resources. Additionally, the Record of Decision (ROD) for the Sierra Nevada Forest Plan Amendment (SNFPA) sets priorities for management activities that would restore natural ecosystem processes while minimizing the threat fire poses to lives, structures, and resources through site specific prescriptions designed to modify fire intensity and spread in treated areas.

(2) The second fundamental purpose of this project is to also improve stand vigor and resistance to disease and insect mortality.

There is a need to improve the health of trees within the project area by removing unhealthy trees and reducing stand density. Over-dense stands are experiencing inter-tree competition for resources and are at risk for high levels of mortality in the near future. Some stands within the project area are already experiencing high levels of mortality due to disease and insect activity. Although some of the stands in the project have been thinned and salvage logged in the past, the predominantly white fir stands are expected to continue to decrease in health and vigor over time due to insects, annosus root rot, and other disease pathogens. These stands will continue moving farther from their desired future condition as high levels of mortality decrease canopy cover, stocking, and growth at a stand level.

The project area is currently at risk due to insect and disease related mortality. Increased densities of trees, higher levels of disease and insect attack, and an accumulation of ground and ladder fuels within stands indicate unhealthy conditions. Denser stands, such as those that have developed in the project area, demand more water and other limited resources. As a result, over-dense stands are less resistant to insect and disease-related attack, especially during periods of extended drought, which then increases the potential for extreme fire behavior in the area. Large areas of the landscape are dominated by shade-tolerant, drought-and/or fire-intolerant species (white fir, incense-cedar, and Douglas-fir). The structure of the current forested landscape represents an unstable, unsustainable, and therefore undesirable departure from the historic landscape for this area.

The SNFPA directs that prescriptions for treatment areas address identified needs to increase stand resistance to mortality from insect and disease by thinning densely stocked stands to reduce competition and improve tree vigor. Forest health specialists have reviewed treatment areas and have confirmed that insect and disease pathogen activities within stands have increased the risk of mortality due to high stand density and current species composition.

(3) A purpose of this project is also to maintain and/or establish a composition of tree species and size classes that are closer to the historic conditions for the area and correspondingly sustainable into the future.

There is a need to apply the necessary silvicultural and fuels reduction treatments to accelerate the development of key habitat and old forest characteristics, increase stand heterogeneity, restore pine, and to promote hardwoods. The project area is characteristic of much of the mixed-conifer zone of the Sierra Nevada with few or no stands remaining that can be described as natural. To various degrees the forest has been changed from one dominated by large, old, widely spaced trees to one with dense, fairly even-aged stands with most of the larger trees between 80 and 100 years old. This is an unstable, unsustainable forest that is susceptible to drought-induced mortality, bark beetle infestation, and severe wildfire.

Many of the stands within the Big Grizzly project area have been type converted from pine to white fir through natural mortality and the selective logging of pine. Rather than attempt to restore the stands to a specific point in history, there is a need to restore a forest structure that is more resilient to drought, insect and disease pathogens, and wildfire. As discussed above, as a result of the current species composition and risk from fire, insect and disease pathogens, these stands are not sustainable. Proposed treatments would promote shade intolerant pines and hardwoods while decreasing the amount of shade tolerant white fir and incense cedar, thereby moving stands closer to a more sustainable species composition.

Reduced competition would enable trees to grow larger more quickly, thereby providing greater numbers of large trees and snags for the future. Treatment would also reduce the risk of fire related mortality to large trees that are currently within the units, maintaining the valuable structure they provide within the stand.

There is a need to control spacing and species composition in the plantations to accelerate the development of old forest characteristics. While the plantations do not currently have the structure that would allow them to function as old forest habitat, since they consist primarily of young ponderosa pine, they provide important reservoirs of pine within the landscape. Thinning in plantations and natural stands would facilitate tree growth allowing stands to more rapidly develop large trees, and increase the probability that these stands would survive into the future. These stands could then be managed to ensure the development of additional components of structure for old forest dependent species.

(4) A purpose of the project is to treat hazard fuels in a cost-effective manner to maximize program effectiveness.

There is a need for this project to be cost effective so that the maximum benefit can be achieved through the work performed. The SNFPA provides direction to design area treatments that are economically efficient where consistent with desired conditions, using wood by-products from over-dense stands to offset the cost of fuels treatments. The removal of commercial sized trees would partially offset the substantial costs associated with the expensive investment components of this project, including the treatment of surface fuels, cutting and removal of the non-commercial ladder fuels, mastication and herbicide treatments.

Proposed Action

To move stands toward the Desired Future Condition for the various land allocations as described in the Record of Decision for the Final Supplemental Environmental Impact Statement for the Sierra Nevada Forest Plan Amendment dated 1/21/2004, the Proposed Action includes a combination of fuels reduction and forest health improvement actions. Silvicultural treatments for each stand were chosen for their ability to meet the stated purpose and need. The focus of each treatment is based on the desired quality of each treatment area after management rather than the quantity or quality of the products removed from each area. In fact, some treatment would not remove forest products.

• Approximately 3,200 acres are proposed to be treated using understory thinning involving the cutting and removal of both commercial and non-commercial size trees. Follow-up mastication or tractor piling and pile burning would occur shortly after the thinning is completed. Follow up prescribed burning would occur approximately 2-7 years after the pile burning is completed.

• Approximately 900 additional acres are proposed for stand improvement cutting for forest health through the removal of suppressed and dying trees. In order to facilitate the restoration of pine species to stands, the creation of gaps of up to 3 acres in size is proposed within these 900 acres of stand treatments. Gap establishment would be accomplished through the harvesting of white fir trees and conifer trees of other species that are within; and immediately adjacent to selected, existing canopy gaps that are currently greater than 1/2 acre in size and that are expanding due to root rot. Healthy pine trees would be specifically retained within the selected gaps. The selected gaps would have the slash tractor piled and then the gaps would be planted with ponderosa pine, sugar pine and Douglas-fir at a 12x12 foot spacing. At the time of planting, the planted seedlings would be released from competing vegetation by hand scalping. A follow-up ground based application of herbicide would occur within the gaps within 1-5 years to control competing vegetation. Gaps would be established on 10-30% of the acres in any given stand. Planting of pine within these gaps would move the stands toward their desired future, thereby moving the stand structure and composition to a more resilient condition.

• Units 3 18-1, 320-43, 320-67, and 320-7 1, approximately 900 acres, would require a non-significant forest plan amendment because the proposed activities would reduce the canopy cover below 40 percent. The amendment is necessary to meet forest health objectives of minimizing the impact of Heterobasidion annosum, the most important disease found in the project area.

• The proposal also includes precommercial thinning and mastication of approximately 120 acres of <50-year old plantations, mastication with follow-up ground based application of herbicide on approximately 1,100 acres of 15-30 year old plantations, and mastication with follow-up ground based application of herbicide on approximately 75 acres of 47 year old plantation currently located within the project area. These treatments would reduce future fuel loading, alter the vegetative structure to reduce the risk of loss to wildland fire, improve forest health by reducing susceptibility to insect and disease pathogens, and create conditions that accelerate the development of old forest characteristics.

• Prescribed burning as the only treatment is proposed on approximately 800 acres of the project area to reduce the amount of ground fuels between thinning units thereby making the proposed thinning treatments more effective.

• Approximately 1 mile of road construction and approximately 15 miles of road reconstruction is estimated to be necessary to facilitate accessibility to perform proposed fuel and forest health treatments.

Nature of Decision To Be Made

The decision to be made is whether to adopt and implement the proposed action, an alternative to the proposed action, or take no action to improve forest health, and to reduce fuels.

Other alternatives would be developed if significant issues are identified during the scoping process for the environmental impact statement. All alternatives will need to respond to the specific condition of providing benefits equal to or better than the current condition.

Scoping Process

Public participation will be especially important at several points during the analysis. The Forest Service will be seeking information, comments, and assistance from Federal, State, and local agencies and other individuals or organizations that may be interested in or affected by the proposed action. To facilitate public participation, information about the proposed action will be mailed to all who express interest in the Proposed Action.

Comments submitted during the scoping process should be in writing and should be specific to the Proposed Action. The comments should describe as clearly and completely as possible any issues the commenter has with the proposal.

Comment Requested

This notice of intent initiates the scoping process which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NIRDC, 435 U.S. 519, 553 (1978). Also, environmental objections that could be raised at the draft environmental impact statement stage, but that axe not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21.)

Ramiro Villalvazo, Forest Supervisor, Eldorado National Forest is the responsible official. As the responsible official he will document the decision and reasons for the decision in the Record of Decision. That decision will be subject to Forest Service appeal regulations (36 CFR part 215).

Dated: January 27, 2009.
Ramiro Villalvazo,
Forest Supervisor.

[FR Doc. E9-5019 Filed 3-10-09; 8:45 am]

BILLING CODE 3410-11-M